FEDERAL MARITIME COMMISSION

[Docket No. 00-05]

World Line Shipping, Inc. and Saeid B. Maralan (AKA Sam Bustani); Notice of Show Cause Proceeding

Notice is given that the Commission, on April 20, 2000, served an Order to Show Cause on World Line Shipping, Inc. (“World Line Shipping”), which was a tariffed and bonded non-vessel-operating common carrier (“NVOCC”) until October 21, 1999, and Saeid B. Maralan (aka Sam Bustani) (“Bustani”), the president and owner of World Line Shipping. The order directs World Line Shipping to show cause why it should not be found to have violated section 8 of the Shipping Act of 1984, (“Shipping Act”) 46 U.S.C. app. section 1707, by acting as a NVOCC without a tariff for such service available to the public; World Line Shipping and Sam Bustani to show cause why they should not be found to have violated section 19(a) of the Shipping Act, 46 U.S.C. app. section 1718(a), by acting as ocean transportation intermediaries (“OTIs”) without a license issued by the Commission; World Line Shipping and Sam Bustani to show cause why they should not be found to have violated section 19(b) of the Shipping Act, 46 U.S.C. app. 1718(b), by acting as OTIs without a bond or other surety filed with the Commission; Sam Bustani to show cause why he should not be found to have violated the cease and desist orders issued in Docket No. 98-19, Saeid B. Maralan et al.—Possible Violations of Sections 8(a)(1), 10(b)(1), 19(a) and 23(a) of the Shipping Act of 1984, 28 S.R.R. 1244 (FMC 1999), prohibiting him from acting as an NVOCC without a tariff and bond on file with the Commission; Sam Bustani to show cause why he should not be found to have violated the cease and desist orders issued in Docket No. 98-19, Saeid B. Maralan et al.—Possible Violations of Sections 8(a)(1), 10(b)(1), 19(a) and 23(a) of the Shipping Act of 1984, 28 S.R.R. 1244 (FMC 1999), prohibiting him from using any name other that World Line Shipping, Inc. when operating as an NVOCC unless and until he registers other d/b/a names in the World Line tariff and with the State of California; and World Line Shipping and Sam Bustani to show cause why an order should not be issued directing World Line Shipping and Sam Bustani to cease and desist from providing or holding themselves out to provide transportation as an OTI between the United States and a foreign country unless and until such time as World Line Shipping or Sam Bustani shall have published a publicly available tariff and filed a bond for such service with the Commission. Should violations be found, the Commission may refer the proceeding to an Administrative Law Judge for the assessment of civil penalties. The full text of the Order may be viewed on the Commission's home page at www.fmc.gov, or at the Office of the Secretary, Room 1046, 800 N. Capitol Street, NW, Washington, DC.

Any person may file a petition for leave to intervene in accordance with 46 CFR 502.72.

T.A. Zook,
Assistant Secretary.

[FR Doc. 00-10444 Filed 4-26-00; 8:45 am]

BILLING CODE 6730-01-P